FEDERAL ELECTION COMMISSION

Sunshine Act Notice

AGENCY: Federal Election Commission.

DATE AND TIME: Thursday, February 14, 2013 at 10:00 a.m.

PLACE: 999 E Street NW., Washington, DC (Ninth Floor).

STATUS: This meeting will be open to the public.

ITEMS TO BE DISCUSSED:

Correction and Approval of the Minutes for the Meeting of January 31, 2013

Draft Advisory Opinion 2012-38: Socialist Workers Party

Proposed Final Audit Report on McCain-Palin 2008 Inc. and McCain-Palin Compliance Fund, Inc.

Proposed Final Audit Report on the Maine Republican Party (A09-09)

Proposed Final Audit Report on Rightmarch.com PAC, Inc. (A09-25)

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2013-03224 Filed 2-7-13; 4:15 pm]

BILLING CODE 6715-01-P